DEPARTMENT OF ENERGY

Federal Energy Regulatory Commission

[Project No. 13285-000]

The Nevada Hydro Company, Inc.; Notice of Preliminary Permit Application Accepted for Filing and Soliciting Comments, Motions To Intervene and Competing Applications

October 14, 2008.

On September 10, 2008, The Nevada Hydro Company, Inc. filed an application, pursuant to section 4(f) of the Federal Power Act (FPA), proposing to study the feasibility of the Blue Diamond Pumped Storage Project to be located in Clark County, Nevada. The proposed project would be closed loop and would not be located on any existing water body.

The proposed project would consist of: (1) An upper reservoir with a maximum elevation of 4,810 feet MSL, a storage capacity of 4,900 acre-feet, and a surface area of 150 acres; (2) a lower reservoir with a maximum elevation of 3,320 feet MSL, a storage capacity of 4,900 acre-feet, and a surface area of 75 acres; (3) a 21-foot diameter, 4,300-foot long concrete and steel penstock; (4) a powerhouse containing two turbine/pump units with a total installed capacity of 450 MW; (5) a 132-kV, 3.5-mile long transmission line and; (6) appurtenant facilities. The annual production would be 1170 GWh which would be sold to a local utility.

Applicant Contact: Rexford Wait, 2416 Cades Way, Vista, CA 92083 (760) 599-0086.

FERC Contact: Steven Sachs (202) 502-8666.

Deadline for filing comments, motions to intervene, competing applications (without notices of intent), or notices of intent to file competing applications: 60 days from the issuance of this notice.

Comments, motions to intervene, notices of intent and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13285) in the docket number field to access the document. For assistance, call toll-free 1-866-208-3372.

Kimberly D. Bose,
Secretary.

[FR Doc. E8-24953 Filed 10-20-08; 8:45 am]

BILLING CODE 6717-01-P